DEPARTMENT OF HEALTH AND HUMAN SERVICES

Indian Health Service

Proposed Information Collection

AGENCY: Indian Health Service, HHS.

ACTION: Request for Public Comment: 30-day Proposed Information Collection: Indian Health Service Loan Repayment Program.

SUMMARY: In compliance with section 3507(a)(1)(D) of the Paperwork Reduction Act of 1995, for opportunity for public comment on proposed information collection projects, the (HHS) has submitted to the Office of Management and Budget (OMB) a request to review and approve the information collection listed below. This proposed information collection project was published in the Federal Register (67 FR 53956) and allowed 60 days for public comment. No public comment was received in response to the notice. The purpose of this notice is to allow 30 days for public comment to be submitted to OMB.

Proposed Collection:

Title: 09-17-0014, “Indian Health Service Loan Repayment Program.”

Type of Information Collection Request: Extension of a currently approved collection.

Form Number: None.

Forms: The IHS Loan Repayment Program Information Booklet contains the instructions and the application formats.

Need and Use of Information Collection: The IHS Loan Repayment Program (LRP) identifies health professionals with pre-existing financial obligations for education expenses that meet program criteria and who are qualified and will to serve at, often remote, IHS health care facilities. Under the program, eligible health professionals sign a contract under which the IHS agrees to repay part or all of the indebtedness for professional training education. In exchange, the health professionals agree to serve for a specified period of time in IHS health care facilities. Eligible health professionals that wish to apply must submit an application to participate in the program. The application requests personal, demographic and educational training information, including information on the educational loans of the individual for which repayment is being requested (i.e., date, amount, account number, purpose of each loan, interest rate, the current balance, etc.). The data collected is needed and used to evaluate applicant eligibility; rank and prioritize applicants by specialty; assign applicants to IHS health care facilities; determine payment amounts and schedules for paying the lending institutions; and to provide data and statistics for program management review and analysis.

Affected Public: Individual and households.

Type of Respondents: Individuals.

Burden Hours: The table below provides the estimated burden hours for this information collection.

Burden is the time it takes for respondents to complete the data collection instruments:

Estimated Burden Hours: Data collection instrument | Estimated Burden Hours: Estimated no. of respondents | Estimated Burden Hours: Responses per respondent | Estimated Burden Hours: Average burden hour per response* | Estimated Burden Hours: Total annual burden hrs
Section I | 425 | 1 | 0.25 (15 mins) | 106.0
Section II | 425 | 1 | 0.50 (30 mins) | 213.0
Section III | 425 | 4 | 0.25 (15 mins) | 425.0
Contract | 425 | 1 | 0.33 (20 mins) | 140.0
Affidavit | 425 | 1 | 0.17 (10 mins) | 72.0
Lender Certificate | 1700 | 1 | 0.25 (15 mins) | 425.0
Total | 2125 |  |  | 1381
*For ease of understanding, burden hours are also provided in actual minutes.

There are no Capital Costs, Operating Costs and/or Maintenance Costs to report.

Request for Comments: Your written comments and/or suggestions are invited on one or more of the following points: (a) Whether the information collection activity is necessary to carry out an agency function; (b) whether the IHS processes the information collected in a useful and timely fashion; (c) the accuracy of the public burden estimate (the estimated amount of time needed for individual respondents to provide the requested information); (d) whether the methodology and assumptions used to determine the estimate are logical; (e) ways to enhance the quality, utility, and clarity of the information being collected; and (f) ways to minimize the public burden through the use of automated, electronic, mechanical, or other technological collection techniques or other forms of information technology.

Direct Comments to OMB: Written comments and/or suggestions regarding the proposed information collection contained in this notice, especially regarding the estimated public burden and associated response time, should be directed to: Office of Management and Budget, Office of Information and Regulatory Affairs, New Executive Office Building, Room 10235, Washington, DC 20503, Attention: Desk Officer for IHS.

FOR FURTHER INFORMATION CONTACT: Copies of the proposed information collection and supporting documents may be obtained from Mr. Lance Hodahkwen, Sr., M.P.H., IHS Reports Clearance Officer, 12300 Twinbrook Parkway, Suite 450, Rockville, MD 20852.1601. Telephone non-toll free (301) 443-5938; Fax: (301) 443-2316, or e-mail: lhodahkw@hqe.ihs.gov.

Comment Due Date: Comments regarding this information collection are best assured of having their full effect if received on or before December 9, 2002.

Dated: October 24, 2002.
Charles W. Grim,
Assistant Surgeon General, Interim Director, Indian Health Service.

[FR Doc. 02-28471 Filed 11-7-02; 8:45 am]

BILLING CODE 4160-16-M